DEPARTMENT OF LABOR

Mine Safety and Health Administration

Petitions for Modification

AGENCY: Mine Safety and Health Administration, Labor.

ACTION: Correction notice.

SUMMARY: This is a correction to a petition for modification notice that was published in the Federal Register on December 3, 2007 (72 FR 67970), for Affirmative Decisions on Petitions for Modification. In the notice we inadvertently listed the petition for modification, docket number M-2005-079-C, RS&W Coal Company, RS&W Drift Mine, MSHA I.D. No. 36-01818, as a granted petition. This petition for modification has not been granted.

Dated: December 12, 2007.
Jack Powasnik,
Deputy Director, Office of Standards, Regulations, and Variances.

[FR Doc. 07-6094 Filed 12-19-07; 8:45 am]

BILLING CODE 4510-43-M